DEPARTMENT OF AGRICULTURE

Forest Service

Prince of Wales Resource Advisory Committee

AGENCY: Forest Service, USDA.

ACTION: Notice of meeting.

SUMMARY: The Prince of Wales Resource Advisory Committee will meet in Craig, Alaska, November 5, 2010. The purpose of this meeting is to discuss potential projects under the Secure Rural Schools and Community Self-Determination Act of 2008.

DATES: The meeting will be held November 5, 2010 from 9 a.m. to 4 p.m.

ADDRESSES: The meeting will be held at the Craig Ranger District 504 9th Street, Craig, Alaska. Send written comments to Prince of Wales Resource Advisory Committee, c/o District Ranger, USDA Forest Service, P.O. Box 500, Craig, AK 99921, or electronically to Rebecca Sakraida, RAC Coordinator at rsakraida@fs.fed.us.

FOR FURTHER INFORMATION CONTACT: Rebecca Sakraida, RAC Coordinator Craig Ranger District, Tongass National Forest, (907) 826-1601.

SUPPLEMENTARY INFORMATION: The meeting is open to the public. Committee discussion is limited to Forest Service staff and Committee members. However, public input opportunity will be provided and individuals will have the opportunity to address the Committee at that time.

Dated: October 15, 2010.
Jason C. Anderson,
District Ranger.

[FR Doc. 2010-26892 Filed 10-22-10; 8:45 am]

BILLING CODE 3410-11-P